COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Date deleted from the Procurement List: April 8, 2018.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 2/2/2018 (83 FR 23), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

7125-00-R10-0001—Lewis & Clark Discovery Box (Lightweight Box)

7125-00-R10-0002—Lewis & Clark Discovery Box (Cabbage Box)

Mandatory Source of Supply: Development Workshop, Inc., Idaho Falls, ID

Contracting Activity: W071 ENDIST Portland

NSN(s)—Product Name(s): 5340-01-248-2119—Strap, Webbing

Mandatory Source of Supply: Huntsville Rehabilitation Foundation, Huntsville, AL

Contracting Activity: Defense Logistics Agency Troop Support

NSN(s)—Product Name(s): 5680-01-227-7577—Weather Strip

Mandatory Source of Supply: Huntsville Rehabilitation Foundation, Huntsville, AL

Contracting Activity: W4T8 USASMDC HUNTSVILLE

NSN(s)—Product Name(s): 7510-00-NIB-0464—Pencil, Mechanical

Mandatory Source of Supply: Industries for the Blind, Inc., West Allis, WI

Contracting Activity: Department of Commerce

NSN(s)—Product Name(s):

7520-01-580-0847—Pencil, Mechanical, .7 MM HB Lead

7520-01-580-0848—Pencil, Mechanical, .5 MM HB Lead

7510-01-580-0849—Refill, 12 Lead Cartridge, 0.7 mm HB

7510-01-580-0850—Refill, 12 Lead Cartridge, 0.5mm HB

Mandatory Source of Supply: San Antonio Lighthouse for the Blind, San Antonio, TX

Contracting Activity: General Services Administration, New York, NY

NSN(s)—Product Name(s):

6515-01-364-8553—Gloves, Exam, Disposable, Powdered, Latex, Medium, Natural Color

6515-01-364-8554—Gloves, Exam, Disposable, Powdered, Latex, Large, Natural Color

6515-01-365-6183—Gloves, Exam, Disposable, Powdered, Latex, Small, Natural Color

Mandatory Source of Supply: BOSMA Enterprises, Indianapolis, IN

Contracting Activity: Defense Logistics Agency Troop Support

Amy B. Jensen,
Director, Business Operations.

[FR Doc. 2018-04820 Filed 3-8-18; 8:45 am]

BILLING CODE 6353-01-P